ENVIRONMENTAL PROTECTION AGENCY

[FRL-9496-4]

Meeting of the National Drinking Water Advisory Council—Notice of Public Meeting

AGENCY: Environmental Protection Agency.

ACTION: Notice of a public meeting.

SUMMARY: Notice is hereby given of a meeting of the National Drinking Water Advisory Council (NDWAC or Council), established under the Safe Drinking Water Act. The Council will consider various issues associated with drinking water protection and public water systems including actions to assist small water systems and efforts underway to address nutrient pollution of drinking water supplies. The Council will also receive updates about several on-going drinking water program activities.

DATES: The Council meeting will be held on December 14, 2011, from 8:30 a.m. to 5 p.m., and December 15, 2011, from 8:30 a.m. to 5 p.m., Eastern Standard Time.

ADDRESSES: The meeting will be held at the Hyatt Regency Crystal City Hotel, 2799 Jefferson Davis Highway, Arlington, VA 22202.

FOR FURTHER INFORMATION CONTACT: Members of the public who would like to attend the meeting, present an oral statement, or submit a written statement, should contact Suzanne Kelly, by email, Kelly.Suzanne@epa.gov, by phone, (202) 564-3887, or by regular mail at the U.S. Environmental Protection Agency, Office of Ground Water and Drinking Water (MC 4601M), 1200 Pennsylvania Avenue NW., Washington, DC 20460.

SUPPLEMENTARY INFORMATION:

National Drinking Water Advisory Council: The Council was created by Congress on December 16, 1974, as part of the Safe Drinking Water Act (SDWA) of 1974, Public Law 93-523, 42 U.S.C. 300j-5 and is operated in accordance with the provisions of the Federal Advisory Committee Act (FACA), 5 U.S.C. App. 2. The Council was established under the SDWA to provide practical and independent advice, consultation and recommendations to the EPA Administrator on the activities, functions, policies, and regulations required by the SDWA.

December 14-15, 2011 Public Meeting

The meeting is open to the public. The Council encourages the public's input and will allocate one hour (11 a.m.-12 p.m.) on December 15, 2011, for this purpose. Oral statements will be limited to five minutes. It is preferred that only one person present the statement on behalf of a group or organization. To ensure adequate time for public involvement, individuals or organizations interested in presenting an oral statement should notify Suzanne Kelly by telephone at (202) 564-3887 no later than December 6, 2011. Any person who wishes to file a written statement can do so before or after a Council meeting. Written statements received by December 6, 2011 will be distributed to all members of the Council before any final discussion or vote is completed. Any statements received December 7, 2011, or after the meeting will become part of the permanent meeting file and will be forwarded to the Council members for their information.

Special Accommodations

For information on access or services for individuals with disabilities, please contact Suzanne Kelly at (202) 564-3887 or by email at Kelly.Suzanne@epa.gov. To request accommodation of a disability, please contact Suzanne Kelly, preferably, at least 10 days prior to the meeting to give EPA as much time as possible to process your request.

Dated: November 17, 2011.
Ronald W. Bergman,
Acting Director, Office of Ground Water and Drinking Water.

[FR Doc. 2011-30362 Filed 11-23-11; 8:45 am]

BILLING CODE 6560-50-P